ENVIRONMENTAL PROTECTION AGENCY

40 CFR Parts 122 and 412

[FRL-6966-9]

RIN 2040-AD19

Extension of Comment Period on the Proposed National Pollutant Discharge Elimination System Permit Regulations and Effluent Limitations Guidelines and Standards for Concentrated Animal Feeding Operations

AGENCY: Environmental Protection Agency.

ACTION: Notice of Extension of comment period on proposed rule.

SUMMARY: On January 12, 2001, EPA published a proposed rule that would revise the effluent limitations guidelines and standards and NPDES permitting regulations for concentrated animal feeding operations (66 FR 2960). In a subsequent document published on January 19, 2001 (66 FR 5524), a correction was issued that established May 14, 2001 as the deadline for the public to submit comments to EPA on the proposed rule. This document announces that EPA is extending the public comment period on this proposal. EPA will now accept comments on the proposed rule through July 30, 2001.

DATES: Comments must be received or postmarked on or before midnight July 30, 2001.

ADDRESSES: Send written comments to: Concentrated Animal Feeding Operations Proposed Rule, Office of Water, Engineering and Analysis Division (4303), U.S. EPA, 1200 Pennsylvania Avenue, NW., Washington, DC 20460. Hand deliveries should be submitted to the Concentrated Animal Feeding Operation Proposed Rule, USEPA, Waterside Mall, West Tower, Room 611, 401 M Street, SW., Washington, DC 20460. You may also submit comments electronically to CAFOS.comments@epa.gov. EPA requests an original and three copies of your comments and enclosures (including references). For additional information on how to submit comments, see SUPPLEMENTARY INFORMATION, How May I Submit Comments?” in the January 12, 2001 proposal.

FOR FURTHER INFORMATION CONTACT: Karen Metchis at (202) 564-0734 or Jan Goodwin at (202) 260-7152.

SUPPLEMENTARY INFORMATION: EPA continues to invite comments on all aspects of the January 12, 2001 proposal. If you already submitted comments to EPA in response to the proposal, and wish to submit additional comments per today's extension, EPA requests that the later set of comments clearly specify whether they supplement or supersede the earlier-filed comments.

All other requirements that were stipulated in the January 12, 2001 proposal for receipt of comments continue to apply.

Dated: April 6, 2001.
Diane C. Regas,
Acting Assistant Administrator for Water.

[FR Doc. 01-9483 Filed 4-16-01; 8:45 am]

BILLING CODE 6560-50-P